DEPARTMENT OF DEFENSE

Office of the Secretary

[Transmittal No. 23-0L]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0L.

Dated: October 2, 2024.
Aaron T. Siegel,
Alternate OSD Federal Register Liaison Officer, Department of Defense.

BILLING CODE 6001-FR-P

BILLING CODE 6001-FR-C

Transmittal No. 23-0L

REPORT OF ENHANCEMENT OR UPGRADE OF SENSITIVITY OF TECHNOLOGY OR CAPABILITY (SEC. 36(B)(5)(C), AECA)

(i) Purchaser: Government of India

(ii) Sec. 36(b)(1), AECA Transmittal No.: 21-13

Date: April 30, 2021

Implementing Agency: Navy

Funding Source: National Funds

(iii) Description: On April 30, 2021, Congress was notified by congressional certification transmittal number 21-13 of the possible sale, under Section 36(b)(1) of the Arms Export Control Act, of six (6) P-8I Patrol Aircraft; eight (8) Multifunctional Information Distribution System-Joint Tactical Radio Systems 5 (MIDS-JTRS 5) (6 installed, 2 spares); forty-two (42) AN/AAR-54 Missile Warning Sensors (36 installed, 6 spares); and fourteen (14) LN-251 with Embedded Global Positioning Systems (GPS)/Inertial Navigations Systems (EGIs) (12 installed, 2 spares). Also included were CFM56-7 commercial engines; Tactical Open Mission Software (ITOMS) variant for P-8I; Electro-Optical (EO) and Infrared (IR) MX-20HD; AN/AAQ-2(V)l Acoustic System; ARES-1000 commercial variant Electronic Support Measures; AN/APR-39D Radar Warning Receiver; AN/ALE-47 Counter Measures Dispensing System; support equipment and spares; publications; repair and return; transportation; aircraft ferry; training; U.S. Government and contractor engineering, software, technical, and logistics support services; and other related elements of logistical and program support. The total estimated cost was $2.42 billion. MDE constituted $2.05 billion of this total.

This transmittal reports a net value increase in MDE of $.55 billion to $2.6 billion due to price increases. No additional MDE equipment will be included. The following non-MDE will be added: AN/ARC-210 RT-2036(C) UHF/VHF Radio Transceivers; AN/AAR-47 Missile Warning Sensors; Electronic Countermeasure AN/ALQ-213; Advanced Digital Antenna Production (ADAP) Antenna Electronics (AE); and Advanced Digital Antenna Production (ADAP) Controlled Reception Pattern Antenna (CRPA). Also, the non-MDE AN/APR-39D Radar Warning Receiver previously notified will be replaced with the AN/APR-39D(V)2 Processor Radar. These revisions will result in an increase in estimated non-MDE value of $.23 billion to $.60 billion. The total case value will increase by $0.78 billion, resulting in an estimated total case value of $3.2 billion.

(iv) Significance: The additional non-MDE represents an increase in capability over what was previously notified. The proposed articles and services will improve India's capability to meet current and future threats by providing critical capabilities to India's maritime operations.

(v) Justification: This proposed sale will support the foreign policy and national security objectives of the United States by helping to strengthen the U.S.-Indian strategic relationship and to improve the security of a major defensive partner which continues to be an important force for political stability, peace, and economic progress in the Indo-Pacific and South Asia region.

(vi) Sensitivity of Technology: The Sensitivity of Technology Statement contained in the original notification applies to items reported here with the exceptions of:

• Electronic Warfare Self Protection (EWSP). The aircraft EWSP consists of the ALQ-213 Electronic Warfare Management System (EWMS), the AN/ALE-47 Counter Measures Dispensing System (CMDS), and the AN/AAR-47 Missile Warning System.

• AN/ARC-210 RT-2036(C) Radios. The RT-2036(C) is the first airborne software-defined radio to have MUOS (Mobile User Objective System) Satellite Communications (SATCOM), Second Generation Anti-Jam Tactical UHF Radio for NATO (SATURN) Electronic Counter-Counter Measures (ECCM) waveform, high-speed mobile ad hoc networked communications, and beyond-line-of-sight connectivity for secure data, voice and imagery.

• AN/APR-39D(V)2 Processor Radar. The Radar provides increased Probability of Detection (Sensitivity), corrects ID/Ambiguity Resolution, improves Direction of Arrival (DOA) accuracy versus Circular Polarized (CP) Emitters, and improves DOA Indications versus CID Band Emitters.

• Advanced Digital Antenna Production (ADAP) Antenna Electronics (AE). The ADAP Antenna provides digital anti-jam processing and protected GPS L1 and GPS L2 for the majority of Radio-Frequency (RF) and Infrared Frequency (IF) input GPS receivers.

• Advanced Digital Antenna Production (ADAP) Controlled Reception Pattern Antenna (CRPA). The CRPA Antenna removes interference based on direction of arrival.

The highest level of classification of defense articles, components, and services included in this potential sale is SECRET.

(vii) Date Report Delivered to Congress: June 21, 2023

[FR Doc. 2024-23191 Filed 10-7-24; 8:45 am]

BILLING CODE 6001-FR-P